INTERNATIONAL TRADE COMMISSION

[Investigation No. 332-605]

Recent Trends in U.S. Services Trade: 2025 Annual Report

AGENCY: United States International Trade Commission.

ACTION: Schedule for 2025 report and opportunity to submit information.

SUMMARY: The Commission has prepared and published annual reports in this series since 1996 under the investigation title Recent Trends in U.S. Services Trade. In the years up to and including 2022, the report was prepared under Investigation No. 332-345, and in 2024, it was prepared under Investigation No. 332-601. The 2025 report, which the Commission plans to publish in May 2025, will provide aggregate data on cross-border trade in services for the five-year period ending in 2023, and transactions by affiliates based outside the country of their parent firm for the five-year period ending in 2022. The 2025 report's analysis will focus on professional services (including accounting and audit services, advertising services, architectural and engineering services, education services, legal services, and management consulting services). The Commission is inviting interested members of the public to furnish information and views in connection with the 2025 report.

DATES:

February 3, 2025: Deadline for filing written submissions.

May 30, 2025: Anticipated date for online publication of the report.

ADDRESSES: All Commission offices, including the Commission's hearing rooms, are located in the U.S. International Trade Commission Building, 500 E Street SW, Washington, DC. All written submissions should be addressed to the Secretary, U.S. International Trade Commission, 500 E Street SW, Washington, DC 20436. The public record for this investigation may be viewed on the Commission's electronic docket information system (EDIS) at https://edis.usitc.gov/.

FOR FURTHER INFORMATION CONTACT: Information specific to this investigation may be obtained from Isaac Wohl, Project Leader, Office of Industry and Competitiveness Analysis, Services Division (202-205-3356; isaac.wohl@usitc.gov), John Stefanick, Deputy Project Leader, Office of Industry and Competitiveness Analysis, Services Division (202-205-2607; johnathan.stefanick@usitc.gov), Sharon Fisher, Deputy Project Leader, Office of Industry and Competitiveness Analysis, Services Division (202-205-2431; sharon.fisher@usitc.gov), or Services Division Chief Martha Lawless (202-205-3497; martha.lawless@usitc.gov). For information on the legal aspects of this investigation, contact Brian Allen (202-205-3034; brian.allen@usitc.gov) or William Gearhart (202-205-3091; william.gearhart@usitc.gov) of the Commission's Office of the General Counsel. The media should contact Jennifer Andberg, Office of External Relations (202-205-3404; jennifer.andberg@usitc.gov). Hearing-impaired individuals may obtain information on this matter by contacting the Commission's TDD terminal at 202-205-1810. General information concerning the Commission may also be obtained by accessing its website (https://www.usitc.gov). Persons with mobility impairments who will need special assistance in gaining access to the Commission should contact the Office of the Secretary at 202-205-2000.

SUPPLEMENTARY INFORMATION:

Background: The 2025 annual U.S. services trade report will provide aggregate data on cross-border trade in services for 2019-2023 and affiliate transactions in services for 2018-2022, and more specific data and information on trade in professional services (including accounting and audit services, advertising services, architectural and engineering services, education services, legal services, and management consulting services). The Commission publishes two self-initiated annual reports: a report on trends in services trade (Recent Trends in U.S. Services Trade), and a report on trends in merchandise trade, presented as a data compilation (Shifts in U.S. Merchandise Trade). The Commission's 2024 Recent Trends in U.S. Services Trade report is available online at https://www.usitc.gov/publications/industry_econ_analysis_332/2024/recent_trends_us_services_trade_2024_annual_report.

The initial notice of institution of this series of investigations was published in the Federal Register on September 8, 1993 (58 FR 47287) and provided for a report on merchandise trade. The Commission expanded the scope of the investigation to cover services trade in a separate report, which it announced in a notice published in the Federal Register on December 28, 1994 (59 FR 66974). The separate report on services trade has been published annually since 1996, except in 2005. As in past years, the 2025 report will summarize U.S. trade in services in the aggregate and provide analyses of trends and developments in selected services industries during the latest 5-year period for which data are published by the U.S. Department of Commerce, Bureau of Economic Analysis.

Written Submissions: Interested persons are invited to file written submissions and other information concerning the matters to be addressed by the Commission in its 2025 report. For the 2025 report, the Commission is particularly interested in receiving information relating to trade in professional services (including accounting and audit services, advertising services, architectural and engineering services, education services, legal services, and management consulting services). Submissions should be addressed to the Secretary. To be assured of consideration by the Commission, written submissions related to the Commission's report should be submitted at the earliest practical date and should be received not later than 5:15 p.m., February 3, 2025. All written submissions must conform to the provisions of section 201.8 of the Commission's Rules of Practice and Procedure (19 CFR 201.8), as temporarily amended by 85 FR 15798 (March 19, 2020). Under that rule waiver, the Office of the Secretary will accept only electronic filings at this time. Filings must be made through the Commission's Electronic Document Information System (EDIS, https://edis.usitc.gov). No in-person, paper-based filings or paper copies of any electronic filings will be accepted until further notice. Persons with questions regarding electronic filing should contact the Office of the Secretary, Docket Services Division (202-205-1802), or consult the Commission's Handbook on Filing Procedures.

Confidential Business Information: Any submissions that contain confidential business information (CBI) must also conform with the requirements in section 201.6 of the Commission's Rules of Practice and Procedure (19 CFR 201.6). Section 201.6 of the rules requires that the cover of the document and the individual pages be clearly marked as to whether they are the “confidential” or “nonconfidential” version, and that the CBI is clearly identified by means of brackets. All written submissions, except for CBI, will be made available for inspection by interested persons.

The Commission intends to prepare only a public report in this investigation. The report that the Commission makes available to the public will not contain CBI. However, all information, including CBI, submitted in this investigation may be disclosed to and used: (i) by the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity or other security purposes. The Commission will not otherwise disclose any CBI in a manner that would reveal the operations of the firm supplying the information.

Summaries of Views of Interested Persons: Interested persons wishing to have a summary of their views included in the report should include a summary with a written submission on or before February 3, 2025, and must use the Commission template, which can be downloaded from https://www.usitc.gov/docket_services/documents/firm_or_organization_summary_word_limit.pdf. The Commission template must be uploaded as a separate attachment with the written submission, which is filed on EDIS under the document type “Briefs and Written Submissions.” The summary may not exceed 500 words and should not include any CBI. The summary will be published as provided only if it utilizes the Commission-provided template, meets these requirements, and is germane to the subject matter of the investigation. The Commission will list the name of the organization furnishing the summary and will include a link where the written submission can be found.

By order of the Commission.
Issued: December 12, 2024.
Lisa Barton,
Secretary to the Commission.

[FR Doc. 2025-02749 Filed 2-18-25; 8:45 am]

BILLING CODE 7020-02-P